DEFENSE NUCLEAR FACILITIES SAFETY BOARD

Public Availability of Defense Nuclear Facilities Safety Board FY 2014 Service Contract Inventory Analysis/FY 2015 Service Contract Inventory

AGENCY: Defense Nuclear Facilities Safety Board.

ACTION: Notice of Public Availability of FY 2014 Service Contract Inventory Analysis/FY 2015 Service Contract Inventories.

SUMMARY: In accordance with Section 743 of Division C of the Consolidated Appropriations Act of 2010 (Pub. L. 111-117), DNFSB is publishing this notice to advise the public of the availability of (1) its analysis of the FY 2014 Service Contract inventories and (2) the FY 2015 Service Contract inventories. This inventory provides information on service contract actions over $25,000 that were made in FY 2015. The information is organized by function to show how contracted resources are distributed throughout the agency. The inventory has been developed in accordance with guidance issued on December 19, 2011 by the Office of Management and Budget's Office of Federal Procurement Policy (OFPP). OFPP's guidance is available at http://www.whitehouse.gov/sites/default/files/omb/procurement/memo/service-contract-inventory-guidance.pdf. DNFSB has posted its FY 2014 analysis and FY 2015 inventory and a summary of the inventory on the DNFSB homepage at the following link: http://www.dnfsb.gov/open.

FOR FURTHER INFORMATION CONTACT: Questions regarding the service contract inventory should be directed to Sherrill King at 202-694-7070 or mailbox@dnfsb.gov.

Dated: April 12, 2016.
Mark T. Welch,
General Manager.

[FR Doc. 2016-08782 Filed 4-14-16; 8:45 am]

BILLING CODE 3670-01-P